DEPARTMENT OF COMMERCE

National Oceanic and Atmospheric Administration

RIN 0648-XO83

New England Fishery Management Council; Public Meeting

AGENCY: National Marine Fisheries Service (NMFS), National Oceanic and Atmospheric Administration (NOAA), Commerce.

ACTION: Notice; public meeting.

SUMMARY: The New England Fishery Management Council's (Council) VMS/Enforcement Committee will meet to consider actions affecting New England fisheries in the exclusive economic zone (EEZ).

DATES: The meeting will be held on Friday, May 8, 2009 at 9:30 a.m.

ADDRESSES: Meeting address: The meeting will be held at the Sheraton Ferncroft Hotel, 50 Ferncroft Road, Danvers, MA 01923; Telephone: (978) 777-2500; Fax: (978) 750-7991.

Council address: New England Fishery Management Council, 50 Water Street, Mill 2, Newburyport, MA 01950.

FOR FURTHER INFORMATION CONTACT: Paul J. Howard, Executive Director, New England Fishery Management Council; telephone: (978)465-0492.

SUPPLEMENTARY INFORMATION: The items of discussion in the committee's agenda are as follows:

(1) The committee will review and discuss management alternatives under development in Amendment 4 to the Atlantic Herring Fishery Management Plan (FMP), which may include measures to establish annual catch limits and accountability measures, a catch monitoring program for the Atlantic herring fishery, management measures to address/minimize bycatch, and measures to address access by herring vessels to groundfish closed areas; and develop Enforcement Committee recommendations for Herring Committee/Council consideration.

(2) The enforcement discussion regarding Amendment 4 to the Herring FMP will likely focus on the details of the proposed alternatives to establish a catch monitoring program, including: provisions for “maximized retention” and other measures to address slippage and minimize bycatch; measures to implement a dockside monitoring program; measures to improve reporting, compliance, and quota monitoring; and measures to address at-sea monitoring (including measures to improve observer working conditions and data collection);

(3) Other business.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: April 17, 2009.
Tracey L. Thompson,
Acting Director, Office of Sustainable Fisheries, National Marine Fisheries Service.

[FR Doc. E9-9189 Filed 4-21-09; 8:45 am]

BILLING CODE 3510-22-S